DEPARTMENT OF ENERGY

Federal Energy Regulatory Commission

Combined Notice of Filings #1

Take notice that the Commission received the following electric corporate filings:

Docket Numbers: EC23-85-000.

Applicants: Boomtown Solar Energy LLC, BREC Holding Company, LLC, Union Electric Company d/b/a Ameren Missouri.

Description: Ameren Missouri submits Response to July 14, 2023, Deficiency Letter re Amendment to Application.

Filed Date: 8/14/23.

Accession Number: 20230814-5104.

Comment Date: 5 p.m. ET 9/5/23.

Docket Numbers: EC23-123-000.

Applicants: Carroll County Energy LLC.

Description: Application for Authorization Under Section 203 of the Federal Power Act of Carroll County Energy LLC.

Filed Date: 8/17/23.

Accession Number: 20230817-5151.

Comment Date: 5 p.m. ET 9/7/23.

Take notice that the Commission received the following exempt wholesale generator filings:

Docket Numbers: EG23-261-000.

Applicants: Richfield Solar Energy LLC.

Description: Richfield Solar Energy LLC submits Notice of Self-Certification of Exempt Wholesale Generator Status.

Filed Date: 8/21/23.

Accession Number: 20230821-5089.

Comment Date: 5 p.m. ET 9/11/23.

Take notice that the Commission received the following Complaints and Compliance filings in EL Dockets:

Docket Numbers: EL23-92-000; QF13-402-008; QF13-436-001; QF13-437-001.

Applicants: Bennington Solar LLC, Apple Hill Solar LLC, Otter Creek Solar LLC, ALLCO Finance Limited, Otter Creek Solar LLC, Apple Hill Solar LLC, Bennington Solar LLC.

Description: Petition for Enforcement Pursuant to Section 210(H) of the Public Utility Regulatory Policies Act of 1978 of Allco Finance Limited et al.

Filed Date: 8/14/23.

Accession Number: 20230814-5278.

Comment Date: 5 p.m. ET 9/5/23.

Take notice that the Commission received the following electric rate filings:

Docket Numbers: ER21-2449-003.

Applicants: Assembly Solar II, LLC.

Description: Midcontinent Independent System Operator, Inc. submits tariff filing per 35.19a(b): Refund Report_Assembly Solar II, LLC to be effective N/A.

Filed Date: 8/17/23.

Accession Number: 20230817-5135.

Comment Date: 5 p.m. ET 9/7/23.

Docket Numbers: ER21-2892-002.

Applicants: Prairie Wolf Solar, LLC.

Description: Midcontinent Independent System Operator, Inc. submits tariff filing per 35.19a(b): Refund Report_Prairie Wolf Solar, LLC to be effective N/A.

Filed Date: 8/17/23.

Accession Number: 20230817-5137.

Comment Date: 5 p.m. ET 9/7/23.

Docket Numbers: ER22-424-001.

Applicants: Assembly Solar III, LLC.

Description: Midcontinent Independent System Operator, Inc. submits tariff filing per 35.19a(b): Refund Report_Assembly Solar III, LLC to be effective N/A.

Filed Date: 8/17/23.

Accession Number: 20230817-5134.

Comment Date: 5 p.m. ET 9/7/23.

Docket Numbers: ER22-1136-001.

Applicants: Sac County Wind, LLC.

Description: Midcontinent Independent System Operator, Inc. submits tariff filing per 35.19a(b): Refund Report_Sac County Wind, LLC to be effective N/A.

Filed Date: 8/17/23.

Accession Number: 20230817-5136.

Comment Date: 5 p.m. ET 9/7/23.

Docket Numbers: ER22-1610-002.

Applicants: Big River Solar, LLC.

Description: Midcontinent Independent System Operator, Inc. submits tariff filing per 35.19a(b): Refund Report_Big River Solar, LLC to be effective N/A.

Filed Date: 8/17/23.

Accession Number: 20230817-5138.

Comment Date: 5 p.m. ET 9/7/23.

Docket Numbers: ER22-2318-002.

Applicants: MATL LLP.

Description: Compliance filing: Second Amendment to Order 881 Compliance Filing ER22-2318 to be effective 7/12/2025.

Filed Date: 8/21/23.

Accession Number: 20230821-5090.

Comment Date: 5 p.m. ET 9/11/23.

Docket Numbers: ER23-2662-000.

Applicants: Kentucky Utilities Company.

Description: Compliance filing: Remand Compliance Filing LGE and KU Joint Rate Schedule FERC No. 525 to be effective 12/31/9998.

Filed Date: 8/18/23.

Accession Number: 20230818-5191.

Comment Date: 5 p.m. ET 9/8/23.

Docket Numbers: ER23-2663-000.

Applicants: PJM Interconnection, L.L.C.

Description: § 205(d) Rate Filing: Original ISA, SA No. 7038; Queue No. AE2-047 to be effective 7/21/2023.

Filed Date: 8/21/23.

Accession Number: 20230821-5050.

Comment Date: 5 p.m. ET 9/11/23.

Docket Numbers: ER23-2664-000.

Applicants: Southwest Power Pool, Inc.

Description: § 205(d) Rate Filing: Revisions Concerning Critical Load and Demand Response Registration Requirements to be effective 12/31/9998.

Filed Date: 8/21/23.

Accession Number: 20230821-5051.

Comment Date: 5 p.m. ET 9/11/23.

Docket Numbers: ER23-2665-000.

Applicants: Southwest Power Pool, Inc.

Description: § 205(d) Rate Filing: 3Q2023 Tariff Clean-Up Filing to be effective 8/1/2022.

Filed Date: 8/21/23.

Accession Number: 20230821-5054.

Comment Date: 5 p.m. ET 9/11/23.

Docket Numbers: ER23-2666-000.

Applicants: Midcontinent Independent System Operator, Inc.

Description: § 205(d) Rate Filing: 2023-08-21_SA 3372 Entergy Louisiana-Oak Ridge Solar 2nd Rev GIA (J697 J1436) to be effective 8/7/2023.

Filed Date: 8/21/23.

Accession Number: 20230821-5060.

Comment Date: 5 p.m. ET 9/11/23.

Docket Numbers: ER23-2667-000.

Applicants: PJM Interconnection, L.L.C.

Description: § 205(d) Rate Filing: Amendment to ISA, SA No. 5561; Queue No. AC1-043/AD1-115 (amend) to be effective 10/21/2023.

Filed Date: 8/21/23.

Accession Number: 20230821-5063.

Comment Date: 5 p.m. ET 9/11/23.

Docket Numbers: ER23-2668-000.

Applicants: Richfield Solar Energy LLC.

Description: Baseline eTariff Filing: Application for Market-Based Rate Authorization to be effective 10/21/2023.

Filed Date: 8/21/23.

Accession Number: 20230821-5070.

Comment Date: 5 p.m. ET 9/11/23.

Docket Numbers: ER23-2669-000.

Applicants: PJM Interconnection, L.L.C.

Description: § 205(d) Rate Filing: Original ISA, Service Agreement No. 7046; Queue No. AE1-149 to be effective 7/20/2023.

Filed Date: 8/21/23.

Accession Number: 20230821-5073.

Comment Date: 5 p.m. ET 9/11/23.

Docket Numbers: ER23-2670-000.

Applicants: National Grid Generation LLC.

Description: § 205(d) Rate Filing: Annual Reset of Pension and OPEB Expenses to be effective 1/1/2023.

Filed Date: 8/21/23.

Accession Number: 20230821-5076.

Comment Date: 5 p.m. ET 9/11/23.

Docket Numbers: ER23-2671-000.

Applicants: PJM Interconnection, L.L.C.

Description: § 205(d) Rate Filing: Amendment to ISA, SA No. 5481; Queue No. AF1-014 (amend) to be effective 10/21/2023.

Filed Date: 8/21/23.

Accession Number: 20230821-5080.

Comment Date: 5 p.m. ET 9/11/23.

Docket Numbers: ER23-2672-000.

Applicants: PacifiCorp.

Description: PacifiCorp submits Average System Cost Rate Filing for Sales of Electric Power to the Bonneville Power Administration, FY 2024-2025.

Filed Date: 8/17/23.

Accession Number: 20230817-5153.

Comment Date: 5 p.m. ET 9/7/23.

Docket Numbers: ER23-2673-000.

Applicants: Midcontinent Independent System Operator, Inc., Ameren Illinois Company.

Description: § 205(d) Rate Filing: Midcontinent Independent System Operator, Inc. submits tariff filing per 35.13(a)(2)(iii:2023-08-21_SA 4155 Ameren IL-Coles Wind E&P (J2128) to be effective 8/22/2023.

Filed Date: 8/21/23.

Accession Number: 20230821-5088.

Comment Date: 5 p.m. ET 9/11/23.

Docket Numbers: ER23-2675-000.

Applicants: PJM Interconnection, L.L.C.

Description: § 205(d) Rate Filing: Original UCSA, Service Agreement No. 7048; Queue No. AF2-028 to be effective 7/20/2023.

Filed Date: 8/21/23.

Accession Number: 20230821-5118.

Comment Date: 5 p.m. ET 9/11/23.

Docket Numbers: ER23-2676-000.

Applicants: AEP Texas Inc.

Description: § 205(d) Rate Filing: AEPTX-SMT McAllen II Generation Interconnection Agreement to be effective 7/31/2023.

Filed Date: 8/21/23.

Accession Number: 20230821-5136.

Comment Date: 5 p.m. ET 9/11/23.

Docket Numbers: ER23-2677-000.

Applicants: PJM Interconnection, L.L.C.

Description: § 205(d) Rate Filing: Amendment to ISA/CSA, Service Agreement Nos. 5852/5982; Queue No. AC2-079 to be effective 10/21/2023.

Filed Date: 8/21/23.

Accession Number: 20230821-5138.

Comment Date: 5 p.m. ET 9/11/23.

Docket Numbers: ER23-2678-000.

Applicants: PJM Interconnection, L.L.C.

Description: § 205(d) Rate Filing: Original ISA, Service Agreement No. 7041; Queue No. AE2-092 to be effective 7/20/2023.

Filed Date: 8/21/23.

Accession Number: 20230821-5150.

Comment Date: 5 p.m. ET 9/11/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: August 21, 2023.
Debbie-Anne A. Reese,
Deputy Secretary.

[FR Doc. 2023-18333 Filed 8-24-23; 8:45 am]

BILLING CODE 6717-01-P